DEPARTMENT OF TRANSPORTATION

Federal Highway Administration

Environmental Impact Statement: Weber County, UT

AGENCY: Federal Highway Administration (FHWA), DOT.

ACTION: Notice of intent.

SUMMARY: The FHWA is issuing this notice to advise the public that an Environmental Impact Statement (EIS) will be prepared to address operational, infrastructure, and geometrical deficiencies along I-15 from 31st Street to 2700 North in Weber County, Utah.

FOR FURTHER INFORMATION CONTACT: Gregory Punske, P.E., Project Development Engineer, FHWA, Utah Division, 2520 West 4700 South, Suite 9-A, Salt Lake City, UT 84118, Telephone: (801) 963-0182; or Rex Harris, Utah Department of Transportation (UDOT), 169 North Wall Avenue, Ogden, UT 84412, Telephone: (801) 399-5921, extension 267.

SUPPLEMENTARY INFORMATION: The FHWA in cooperation with the UDOT will prepare an EIS in accordance with the National Environmental Policy Act (NEPA) for a proposed action to address operational, infrastructure, and geometrical deficiencies along I-15 from 31st Street to 2700 North in Weber County, Utah, approximately 13.7 km (8.5 miles) in length. The proposed study intends to consider no-build, transit, transportation system management, and build alternatives to address the need for improvements along this interstate corridor. Build alternatives will consider upgrading the existing facility. The project limits for the build alternatives are expected to be SR-79 (31st Street in Ogden) as the southern terminus and SR-134 (2700 North in North Ogden) as the northern terminus.

A project steering committee and also an advisory committee will be established to encourage early and on-going participation from interested parties. Letters describing the proposed action and soliciting comment will be sent to the appropriate Federal, State, and local agencies, and the private organizations and citizens who have expressed or are known to have an interest in this project. A public scoping meeting will be held. Other public meetings to assist in project scoping efforts are also planned. Additionally, a public hearing will be held. Public notice will be published giving the time and place of these meetings and hearing. The draft environmental document will be available for public and agency review and comment before the public hearing.

To ensure that the full range of issues related to this proposed action are addressed and all significant issues identified, comments, and suggestions are invited from all interested parties. Comments or questions concerning this proposed action and the EIS should be directed to FHWA at the address provided above.

(Catalog of Federal Domestic Assistance Program Number 20.205, Highway Planning and Construction. The regulations implementing Executive Order 12372 regarding intergovernmental consultation on Federal programs and activities apply to this program)
Issued on: April 5, 2001.
David C. Gibbs,
Division Administrator.

[FR Doc. 01-8883 Filed 4-10-01; 8:45 am]

BILLING CODE 4910-22-M